DEPARTMENT OF HOMELAND SECURITY

Federal Emergency Management Agency

[Docket ID FEMA-2023-0002; Internal Agency Docket No. FEMA-B-2314]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Alabama:
Madison | City of Huntsville (22-04-4159P). | The Honorable Thomas Battle, Jr., Mayor, City of Huntsville, 308 Fountain Circle, Huntsville, AL 35801. | City Hall, 308 Fountain Circle, Huntsville, AL 35801. | https://msc.fema.gov/portal/advanceSearch. | Feb. 13, 2023 | 010153
Madison | Unincorporated areas of Madison County (22-04-4159P). | The Honorable Dale Strong, Chair, Madison County Commission, 100 North Side Square, Huntsville, AL 35801. | Madison County Engineering Department, 266-C Shields Road, Huntsville, AL 35811. | https://msc.fema.gov/portal/advanceSearch. | Feb. 13, 2023 | 010151
Florida:
Collier | City of Marco Island (22-04-3314P). | Mike McNees, Manager, City of Marco Island, 50 Bald Eagle Drive, Marco Island, FL 34145. | Building Services Department, 50 Bald Eagle Drive, Marco Island, FL 34145. | https://msc.fema.gov/portal/advanceSearch. | Apr. 7, 2023 | 120426
Duval | City of Jacksonville (22-04-3150P). | The Honorable Lenny Curry, Mayor, City of Jacksonville, 117 West Duval Street, Suite 400, Jacksonville, FL 32202. | Planning and Development Department, 214 North Hogan Street, Suite 300, Jacksonville, FL 32202. | https://msc.fema.gov/portal/advanceSearch. | Apr. 11, 2023 | 120077
Lake | City of Leesburg (22-04-1994P). | Al Minner, Manager, City of Leesburg, 501 West Meadow Street, Leesburg, FL 34748. | City Hall, 204 North 5th Street, Leesburg, FL 34748. | https://msc.fema.gov/portal/advanceSearch. | Mar. 22, 2023 | 120136
Marion | City of Ocala (22-04-4601P). | Peter Lee, Manager, City of Ocala, 110 Southeast Watula Avenue, Ocala, FL 34471. | Engineering and Water Resources Department, 1805 Northeast 30th Avenue, Ocala, FL 34470. | https://msc.fema.gov/portal/advanceSearch. | Apr. 11, 2023 | 120330
Palm Beach | City of Greenacres (22-04-5105P). | Andrea McCue, Manager, City of Greenacres, 5800 Melaleuca Lane, Greenacres, FL 33463. | City Hall, 5800 Melaleuca Lane, Greenacres, FL 33463. | https://msc.fema.gov/portal/advanceSearch. | Apr. 17, 2023 | 120203
Polk | Unincorporated areas of Polk County (22-04-2127P). | Bill Beasley, Manager, Polk County, 330 West Church Street, Bartow, FL 33831. | Polk County Administration Building, 330 West Church Street, Bartow, FL 33831. | https://msc.fema.gov/portal/advanceSearch. | Apr. 27, 2023 | 120261
Sarasota | Unincorporated areas of Sarasota County (22-04-4503P). | The Honorable Alan Maio, Chair, Sarasota County Board of Commissioners, 1660 Ringling Boulevard, Sarasota, FL 34236. | Sarasota County Planning and Development Services Department, 1001 Sarasota Center Boulevard, Sarasota, FL 34240. | https://msc.fema.gov/portal/advanceSearch. | Apr. 12, 2023 | 125144
Sarasota | Unincorporated areas of Sarasota County (22-04-4888P). | The Honorable Alan Maio, Chair, Sarasota County Board of Commissioners, 1660 Ringling Boulevard, Sarasota, FL 34236. | Sarasota County Planning and Development Services Department, 1001 Sarasota Center Boulevard, Sarasota, FL 34240. | https://msc.fema.gov/portal/advanceSearch. | Apr. 12, 2023 | 125144
Kentucky: Warren | City of Bowling Green (22-04-3008P). | The Honorable Todd Alcott, Mayor, City of Bowling Green, 1001 College Street, Bowling Green, KY 42101. | Planning Commission, 922 State Street, Suite 200, Bowling Green, KY 42101. | https://msc.fema.gov/portal/advanceSearch. | Mar. 13, 2023 | 210219
Massachusetts:
Barnstable | Town of Falmouth (22-01-0808P). | The Honorable Nancy R. Taylor, Chair, Town of Falmouth Select Board, 59 Town Hall Square, Falmouth, MA 02540. | Building Department, 59 Town Hall Square, Falmouth, MA 02540. | https://msc.fema.gov/portal/advanceSearch. | Apr. 10, 2023 | 255211
Plymouth | Town of Marshfield (21-01-0914P). | The Honorable Stephen R. Darcy, Chair, Town of Marshfield Select Board, 870 Moraine Street, Marshfield, MA 02050. | Planning Department, 870 Moraine Street, Marshfield, MA 02050. | https://msc.fema.gov/portal/advanceSearch. | Apr. 10, 2023 | 250273
Montana:
Yellowstone | City of Billings (22-08-0233P). | The Honorable Bill Cole, Mayor, City of Billings, P.O. Box 1178, Billings, MT 59103. | Building Division, 2825 3rd Avenue North, 4th Floor, Billings, MT 59101. | https://msc.fema.gov/portal/advanceSearch. | Mar. 23, 2023 | 300085
Yellowstone | Unincorporated areas of Yellowstone County (22-08-0233P). | The Honorable Donald Jones, Chair, Yellowstone County Board of Commissioners, P.O. Box 35000, Billings, MT 59107. | Yellowstone County Public Works Department, 316 North 26th Street, Billings, MT 59101. | https://msc.fema.gov/portal/advanceSearch. | Mar. 23, 2023 | 300142
North Carolina:
Durham | City of Durham (21-04-5883P). | The Honorable Elaine O'Neal, Mayor, City of Durham, 101 City Hall Plaza, Durham, NC 27701. | Durham City-County Hall, 101 City Hall Plaza, Durham, NC 27701. | https://msc.fema.gov/portal/advanceSearch. | Apr. 20, 2023 | 370086
Madison | Unincorporated areas of Madison County (21-04-5687P). | The Honorable Matthew Wechtel, Chair, Madison County Board of Commissioners, P.O. Box 576, Marshall, NC 28753. | Madison County Development Services Department, 5707 U.S. Highway 25/70, Marshall, NC 28753. | https://msc.fema.gov/portal/advanceSearch. | Mar. 4, 2023 | 370153
Rowan | City of Salisbury (21-04-5312P). | The Honorable Karen Alexander, Mayor, City of Salisbury, 132 North Main Street, Salisbury, NC 28144. | City Hall, 217 South Main Street, Salisbury, NC 28144. | https://msc.fema.gov/portal/advanceSearch. | Mar. 17, 2023 | 370215
Wake | Town of Fuquay-Varina (21-04-3215P). | The Honorable Blake Massengill, Mayor, Town of Fuquay-Varina, 134 North Main Street, Fuquay-Varina, NC 27526. | Engineering Department, 134 North Main Street, Fuquay-Varina, NC 27526. | https://msc.fema.gov/portal/advanceSearch. | Jan. 17, 2023 | 370239
Wake | Town of Holly Springs (21-04-0922P). | The Honorable Sean Mayefskie, Mayor, Town of Holly Springs, P.O. Box 8, Holly Springs, NC 27540. | Engineering Department, 128 South Main Street, Holly Springs, NC 27540. | https://msc.fema.gov/portal/advanceSearch. | Mar. 4, 2023 | 370403
Oklahoma:
Creek | City of Sapulpa (22-06-1576P). | The Honorable Craig Henderson, Mayor, City of Sapulpa, 425 East Dewey Avenue, Sapulpa, OK 74066. | City Hall, 424 East Hobson Avenue, Sapulpa, OK 74066. | https://msc.fema.gov/portal/advanceSearch. | Apr. 3, 2023 | 450053
Grady | City of Chickasha (22-06-0966P). | The Honorable Chris Mosley, Mayor, City of Chickasha, 117 North 4th Street, Chickasha, OK 73018. | Community Development Department, 117 North 4th Street, Chickasha, OK 73018. | https://msc.fema.gov/portal/advanceSearch. | Apr. 14, 2023 | 400234
Pennsylvania:
Bucks | Borough of Doylestown (22-03-0568P). | John Davis, Manager, Borough of Doylestown, 10 Doyle Street, Doylestown, PA 18901. | Building and Zoning Department, 10 Doyle Street, Doylestown, PA 18901. | https://msc.fema.gov/portal/advanceSearch. | Apr. 10, 2023 | 421410
Delaware | Borough of Folcroft (22-03-0267P). | The Honorable Franny DiCicco, Mayor, Borough of Folcroft, 1555 Elmwood Avenue, Folcroft, PA 19032. | Borough Building, 1555 Elmwood Avenue, Folcroft, PA 19032. | https://msc.fema.gov/portal/advanceSearch. | Mar. 17, 2023 | 420415
South Carolina: Charleston | Unincorporated areas of Charleston County (22-04-4293P). | The Honorable Teddie E. Pryor, Sr., Chair, Charleston County Council, 4045 Bridge View Drive, North Charleston, SC 29405. | Charleston County Building Services Department, 4045 Bridge View Drive, North Charleston, SC 29405. | https://msc.fema.gov/portal/advanceSearch. | Apr. 19, 2023 | 455413
South Dakota:
Codington | City of Watertown (22-08-0217P). | Amanda Mack, Manager, City of Watertown, P.O. Box 910, Watertown, SD 57201. | Public Works Department, Engineering Division, 23 2nd Street Northeast, Watertown, SD 57201. | https://msc.fema.gov/portal/advanceSearch. | Mar. 20, 2023 | 460016
Codington | Unincorporated areas of Codington County (22-08-0217P). | The Honorable Brenda Hanten, Chair, Codington County Commissioners, 14 1st Avenue Southeast, Watertown, SD 57201. | Codington County Zoning Department, 1910 West Kemp Avenue, Watertown, SD 57201. | https://msc.fema.gov/portal/advanceSearch. | Mar. 20, 2023 | 460260
Pennington | City of Rapid City (22-08-0282P). | The Honorable Steve Allender, Mayor, City of Rapid City, 300 6th Street, Rapid City, SD 57701. | Public Works, Engineering Services Department, 300 6th Street, Rapid City, SD 57701. | https://msc.fema.gov/portal/advanceSearch. | Apr. 19, 2023 | 465420
Pennington | Unincorporated areas of Pennington County (22-08-0282P). | The Honorable Gary Drewes, Chair, Pennington County Board of Commissioners, 130 Kansas City Street, Suite 100, Rapid City, SD 57701. | Pennington County Planning Department, 832 Saint Joseph Street, Rapid City, SD 57701. | https://msc.fema.gov/portal/advanceSearch. | Apr. 19, 2023 | 460064
Texas:
Bexar | City of San Antonio (22-06-1174P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | Mar. 20, 2023 | 480045
Bexar | City of San Antonio (22-06-1982P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | Mar. 20, 2023 | 480045
Bexar | Unincorporated areas of Bexar County (22-06-1470P). | The Honorable Nelson Wolff, Bexar County Judge, 101 West Nueva Street, 10th Floor, San Antonio, TX 78205. | Bexar County Public Works Department, 1948 Probandt Street, San Antonio, TX 78205. | https://msc.fema.gov/portal/advanceSearch. | Apr. 3, 2023 | 480035
Collin | City of Anna (22-06-1094P). | The Honorable Nate Pike, Mayor, City of Anna, P.O. Box 776, Anna, TX 75409. | Public Works Building Department, 3223 North Powell Parkway, Anna, TX 75409. | https://msc.fema.gov/portal/advanceSearch. | Mar. 20, 2023 | 480132
Collin | Unincorporated areas of Collin County (22-06-2159P). | The Honorable Chris Hill, Collin County Judge, 2300 Bloomdale Road, Suite 4192, McKinney, TX 75071. | Collin County Engineering Department, 4690 Community Avenue, Suite 200, McKinney, TX 75071. | https://msc.fema.gov/portal/advanceSearch. | Apr. 3, 2023 | 480130
Dallas | City of Dallas (22-06-2080P). | The Honorable Eric Johnson, Mayor, City of Dallas, 1500 Marilla Street, Suite 5EN, Dallas, TX 75201. | Oak Cliff Municipal Center, 320 East Jefferson Boulevard, Room 312, Dallas, TX 75203. | https://msc.fema.gov/portal/advanceSearch. | Apr. 3, 2023 | 480171
Grayson | City of Van Alstyne (22-06-2710P). | The Honorable Jim Atchison, Mayor, City of Van Alstyne, P.O. Box 247, Van Alstyne, TX 75495. | City Hall, 152 North Main Drive, Van Alstyne, TX 75495. | https://msc.fema.gov/portal/advanceSearch. | Apr. 10, 2023 | 481620
Grayson | Unincorporated areas of Grayson County (22-06-2710P). | The Honorable Bill Magers, Grayson County Judge, 100 West Houston Street, Sherman, TX 75090. | Grayson County Courthouse, 100 West Houston Street, Sherman, TX 75090. | https://msc.fema.gov/portal/advanceSearch. | Apr. 10, 2023 | 480829
Johnson | City of Burleson (22-06-0312P). | The Honorable Chris Fletcher, Mayor, City of Burleson, 141 West Renfro Street, Burleson, TX 76028. | City Hall, 141 West Renfro Street, Burleson, TX 76028. | https://msc.fema.gov/portal/advanceSearch. | Apr. 13, 2023 | 485459
Johnson | Unincorporated areas of Johnson County (22-06-0312P). | The Honorable Roger Harmon, Johnson County Judge, 2 North Main Street, Cleburne, TX 76033. | Johnson County Public Works Department, 2 North Main Street, Cleburne, TX 76033. | https://msc.fema.gov/portal/advanceSearch. | Apr. 13, 2023 | 480879
Medina | Unincorporated areas of Medina County (22-06-2180P). | The Honorable Chris Shacharit, Medina County Judge, 1300 Avenue M, Room 250, Hondo, TX 78861. | Medina County Environmental Health Department, 1502 Avenue K, Hondo, TX 78861. | https://msc.fema.gov/portal/advanceSearch. | Apr. 7, 2023 | 480472
Tooele | City of Tooele (22-08-0553P). | The Honorable Debra E. Winn, Mayor, City of Tooele, 90 North Main Street, Tooele, UT 84074. | Engineering Department, 90 North Main Street, Tooele, UT 84074. | https://msc.fema.gov/portal/advanceSearch. | Mar. 30, 2023 | 490145
Virginia: Fairfax | Town of Vienna (22-03-0155P). | Mercury Payton, Town of Vienna Manager, 127 Center Street South, Vienna, VA 22180. | Public Works Department, 127 Center Street South, Vienna, VA 22180. | https://msc.fema.gov/portal/advanceSearch. | Mar. 29, 2023 | 510053

[FR Doc. 2023-03765 Filed 2-22-23; 8:45 am]

BILLING CODE 9110-12-P